DEPARTMENT OF TRANSPORTATION

Federal Aviation Administration

RTCA Special Committee 147 Sixty Ninth Plenary: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held April 21, 2009 from 9 a.m.-5 p.m.

ADDRESSES: The meeting will be held at RTCA, Inc., 1828 L Street, Suite 805, Washington, DC 20036.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 147 meeting and Working Group 75. The agenda will include:

• Opening Plenary Session

• WG-75 Chairman's opening remarks

• SC-147 Co-Chairmen's opening remarks

• Introductions

• Approval of Agenda

• Approval of Minutes from 68th meeting of SC147

• Final review and discussion of FRAC comments and consideration/final approval of Change 1 to DO-300 (Hybrid Surveillance MOPS)

• Final review and discussion of FRAC comments and consideration/final approval of Change 1 to DO-185B (TCAS II MOPS)

• EUROCAE WG-75: Status of current activities

• TCAS Program Office: TCAS Monitoring efforts

• SC-218 Current status and planned deliverables

• AVS status on TSO-C119c publication

• Certification Authorities (USA and European) plans for Change 7.1 equipage

• Closing Session (Other/new business.)

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on March 18, 2009.
Francisco Estrada C.,
RTCA Advisory Committee.

[FR Doc. E9-6467 Filed 3-23-09; 8:45 am]

BILLING CODE 4910-13-P